DEPARTMENT OF COMMERCE

International Trade Administration

[A-423-808]

Notice of Extension of Time Limit for Final Results of Administrative Review: Stainless Steel Plate in Coils From Belgium

AGENCY: Import Administration, International Trade Administration, Department of Commerce.

SUMMARY: The Department of Commerce (the Department) is extending the time limit for the final results in the antidumping duty administrative review of stainless steel plate in coils from Belgium until no later than December 7, 2004. The period of review is May 1, 2002 through April 30, 2003.

EFFECTIVE DATE: September 17, 2004.

FOR FURTHER INFORMATION CONTACT: Elfi Blum or Toni Page at (202) 482-0197 or (202) 482-1398, respectively; Office of Antidumping/Countervailing Duty Enforcement VI, Import Administration, International Trade Administration, U.S. Department of Commerce, 14th Street and Constitution Avenue, NW., Washington, DC 20230.

Statutory Time Limits: Section 751(a)(3)(A) of the Tariff Act of 1930, as amended (the Act) requires the Department to issue the final results in an administrative review within 120 days after the date on which the preliminary results were published. However, if it is not practicable to complete the review within this time period, section 751(a)(3)(A) of the Act allows the Department to extend the time limit for the final results to 180 days from the date of publication of the preliminary results.

Extension of Time Limits for Final Results

On June 10, 2004, the Department published the preliminary results of this administrative review. See Stainless Steel Plate in Coils from Belgium: Preliminary Results of Antidumping Duty Administrative Review, (69 FR 32501). The current deadline for the final results in this review is October 8, 2004. In accordance with 751(a)(3)(A) of the Act, and 19 CFR 351.213(h)(2), the Department finds that it is not practicable to complete the review within the original time frame because verification of respondent's submitted information took place after the preliminary results were published. Verification of respondent's sales and costs submissions took place from June 21, 2004 through June 30, 2004, in Genk, Belgium, and verification of constructed export price took place from July 21, 2004 through July 30, 2004, in New York, NY. We find that in order to afford the parties to this proceeding sufficient time to submit their case and rebuttal briefs and for the Department to analyze fully the parties' arguments, completion of this review is not practicable within the original time limit.

Consequently, in accordance with sections 751(a)(3)(A) of the Act and section 351.213(h)(2) of the Department's regulations, the Department is extending the time limit for the completion of the final results of the review to 180 days from the publication of the preliminary results. The final results will now be due no later than December 7, 2004.

Dated: September 13, 2004.
Jeffrey A. May,
Deputy Assistant Secretary for Import Administration.

[FR Doc. E4-2230 Filed 9-16-04; 8:45 am]

BILLING CODE 3510-DS-P